DEPARTMENT OF COMMERCE

National Oceanic and Atmospheric Administration

Agency Information Collection Activities; Submission to the Office of Management and Budget (OMB) for Review and Approval; Comment Request; Submission of Conservation Efforts To Make Listings Unnecessary Under the Endangered Species Act

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on September 30, 2024, during a 60-day comment period. This notice allows for an additional 30 days for public comments.

Agency: National Oceanic and Atmospheric Administration, Commerce.

Title: Submission of Conservation Efforts to Make Listings Unnecessary Under the Endangered Species Act.

OMB Control Number: 0648-0466.

Form Number(s): None.

Type of Request: Regular submission [extension of a current information collection].

Number of Respondents: 1.

Average Hours per Response: 2,500 hours to complete each agreement or plan that has the intention of making listing unnecessary; 320 hours to conduct monitoring for successful agreements; and 80 hours to prepare a report for successful agreements.

Total Annual Burden Hours: 2,900.

Needs and Uses: The National Marine Fisheries Service (NMFS), Office of Protected Resources, is sponsoring a request for extension of a currently approved information collection.

Under the Endangered Species Act (ESA), determinations whether to list species as endangered or threatened must be based on the best scientific and commercial data available and after taking into account those efforts, if any, being made by any State or foreign nation (or any of their political subdivisions) to protect the particular species. On March 28, 2003, NMFS and the U.S. Fish and Wildlife Service (the “Services”) announced a final policy on the criteria the Services will use to evaluate certain conservation efforts by States, Tribes, and other non-Federal entities when making listing determinations under the ESA (68 FR 15100). The conservation efforts usually involve the development of a conservation plan or agreement, procedures for monitoring the effectiveness of the plan or agreement, and an annual report.

Affected Public: Business or other for-profit organizations; State, local or tribal governments.

Frequency: One per year.

Respondent's Obligation: Voluntary.

Legal Authority: ESA (16 U.S.C. 1533).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0466.

Sheleen Dumas,
Departmental PRA Compliance Officer, Office of the Under Secretary for Economic Affairs, Commerce Department.

[FR Doc. 2025-03240 Filed 2-27-25; 8:45 am]

BILLING CODE 3510-22-P